DEPARTMENT OF JUSTICE

Notice of Lodging of Consent Decree Under the Comprehensive Environmental Response, Compensation, and Liability Act (“CERCLA”)

In accordance with Departmental policy, 28 CFR 50.7 and 42 U.S.C. 9622(d)(2), notice is hereby given that on August 10, 2000, a proposed Consent Decree for the Rocker Operable Unit (the “Rocker Consent Decree”) in United States v. Atlantic Richfield Company, Civil Action No. 89-39-BU-PGH, was lodged with the United States District Court for the District of Montana.

In this action, the United States sought, pursuant to Section 107 of the Comprehensive Environmental Response, Compensation, and Liability Act, as amended (“CERCLA”), 42 U.S.C. 9607, the recovery of past response costs and a declaratory judgment of liability for future response costs incurred at or in connection with the Original Portion of the Silver Bow Creek/Butte Area National Priorities List (NPL) Site, the Milltown Reservoir Sediments NPL Site (now referred to as the Milltown Reservoir/Clark Fork River NPL Site, and the Anaconda Smelter NPL Site. The claims asserted by the United States include claims for: (1) Reimbursement of past response costs incurred by EPA and the Department of Justice for response actions at the Rocker Timber Framing and Treating Plant operable unit, together with accrued interest; and (2) a declaratory judgment regarding liability of future response costs incurred at the Rocker Site. In this same action, ARCO filed counterclaims against the United States, seeking cost recovery, contribution, contractual indemnity, equitable indemnification, recoupment, and declaratory relief.

The Department of Justice will receive for a period of thirty (30) days from the date of this publication comments relating to the Rocker Consent Decree. Comments should be addressed to the Assistant Attorney General for the Environment and Natural Resources Division, P.O. Box 7611 Ben Franklin Station, NW., Washington, DC 20044-7611, and should refer to United States v. Atlantic Richfield Company, D.J. Ref. 90-11-2-430. Commenters may also request an opportunity for a public meeting in the affected area, in accordance with Section 7003(d) of the Resource Conservation and Recovery Act, 42 U.S.C. 6973(d).

The Rocker Consent Decree may be examined at the Office of the United States Attorney, 2929 Third Avenue North, Suite 400, Billings, Montana 59101, and at U.S. EPA Region VIII Montana Office, Federal Building, 301 South Park, Helena, Montana 59626-0096. A copy of the Rocker Consent Decree may also be obtained by mail from the Consent Decree Library, P.O. Box 7611, U.S. Department of Justice, Washington, DC 20044-7611. In requesting a copy, please enclose a check in the amount of $182.00 (25 cents per page reproduction cost) payable to the Consent Decree Library. In requesting a copy exclusive of exhibits and defendants' signatures, please enclose a check in the amount of $24.50 (25 cents per page reproduction cost) payable to the Consent Decree Library.

Bruce S. Gelber,
Acting Chief, Environmental Enforcement Section, Environment and Natural Resources Division.

[FR Doc. 00-21288 Filed 8-21-00; 8:45 am]

BILLING CODE 4410-15-M